ENVIRONMENTAL PROTECTION AGENCY

40 CFR Parts 261, 262, 266, 268, and 273

[EPA-HQ-RCRA-2007-0932; FRL-9936-49-OSWER]

RIN 2050-AG39

Management Standards for Hazardous Waste Pharmaceuticals

AGENCY: Environmental Protection Agency (EPA).

ACTION: Proposed rule; extension of comment period.

SUMMARY: The Environmental Protection Agency (EPA or the Agency) is announcing an extension to the comment period for the proposed rule on the management and disposal of hazardous waste pharmaceuticals published in the Federal Register on September 25, 2015. EPA is proposing new hazardous waste pharmaceutical regulations under the Resource Conservation and Recovery Act (RCRA) to improve compliance and thereby enhance protection of human health and the environment. Specifically, EPA proposed to revise the regulations to improve the management and disposal of hazardous waste pharmaceuticals and tailor them to address the specific issues that hospitals, pharmacies and other healthcare-related facilities face. The revisions are also intended to clarify the regulation of the reverse distribution mechanism used by healthcare facilities for the management of unused and/or expired pharmaceuticals. The comment period is being extended to December 24, 2015.

DATES: Comments on the proposed rule published September 25, 2015 (80 FR 58014) must be received on or before December 24, 2015.

ADDRESSES: Submit your comments, identified by Docket ID No. EPA-HQ-RCRA-2007-0932, to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: For more detailed information on specific aspects of this rulemaking, contact Kristin Fitzgerald, Office of Resource Conservation and Recovery (5304P), Environmental Protection Agency, 1200 Pennsylvania Avenue NW., Washington, DC 20460; telephone number: 703-308-8286; email address: fitzgerald.kristin@epa.gov or Joshua Smeraldi, Office of Resource Conservation and Recovery (5304P), Environmental Protection Agency, 1200 Pennsylvania Avenue NW., Washington, DC 20460; telephone number: 703-308-0441; email address: smeraldi.josh@epa.gov.

SUPPLEMENTARY INFORMATION: This document extends the public comment period established in the Federal Register for 30 days. In that Federal Register notice, EPA proposed new regulations for the management of hazardous waste pharmaceuticals. The purpose of this proposed regulation is to improve the management and disposal of hazardous waste pharmaceuticals and tailor them to address the specific issues that hospitals, pharmacies and other healthcare-related facilities face. The revisions are also intended to clarify the regulation of the reverse distribution mechanism used by healthcare facilities for the management of unused and/or expired pharmaceuticals. Several requests were received from potential commenters to extend the comment period to allow greater time to comment. EPA is hereby extending the comment period, which was set to end on November 24, 2015, to December 24, 2015. Please note that late comments on this rule making may not be considered.

To submit comments or access the docket, please follow the detailed instructions as provided under ADDRESSES. If you have questions, consult the individuals listed under FOR FURTHER INFORMATION CONTACT.

Dated: October 22, 2015.
Barnes Johnson,
Director, Office of Resource Conservation and Recovery, Office of Solid Waste and Emergency Response.

[FR Doc. 2015-28100 Filed 11-4-15; 8:45 am]

BILLING CODE 6560-50-P